OFFICE OF PERSONNEL MANAGEMENT

Privacy Act of 1974: New System of Records

Correction

In notice document E7-20797 beginning on page 60041 in the issue of Tuesday, October 23, 2007, make the following correction:

The above document should not have printed in the Federal Register of Tuesday, October 23, 2007.

[FR Doc. Z7-20797 Filed 10-24-07; 8:45 am]

BILLING CODE 1505-01-D